DEPARTMENT OF AGRICULTURE

Rural Utilities Service

7 CFR Part 1700

Revision of Delegation of Authority

AGENCY: Rural Utilities Service, USDA.

ACTION: Final rule.

SUMMARY: The Rural Utilities Service (RUS), an agency delivering the U.S. Department of Agriculture's Rural Development Utilities Programs, is amending its regulations to revise the delegation of authority to update key positions and room and phone numbers in the organization and to clarify authority to serve as the Acting Administrator, including in emergency situations where the Continuity of Operations Plan is enacted.

DATES: February 17, 2006.

SUPPLEMENTARY INFORMATION: Continuity of Operations (COOP) is a policy of the United States Government to have in place a comprehensive and effective program to ensure continuity of essential functions under all circumstances. United States Department of Agriculture DR 1800-1 “Departmental Emergency Programs Responsibilities” requires RUS to maintain a viable COOP plan at a high level of readiness.

In developing its COOP plan, RUS has determined it is appropriate to update its existing descriptions of key positions at RUS and related delegations of authority. The RUS organizational description has been revised to include one Deputy Administrator and one Chief of Staff position. This final rule also specifies that the Deputy Administrator is “first assistant” for purposes of the Federal Vacancies Reform Act of 1998 (5 U.S.C. 3345-3349d) and updates several agency room and phone numbers that have changed recently.

This final rule relates to agency management. Therefore, pursuant to 5 U.S.C. 553(b), notice of proposed rule making and opportunity for comment are not required, and this rule is made effective on the date of publication in the Federal Register. Further, since this relates to internal agency management, it is exempt from the provisions of Executive Orders Nos. 12866 and 12988. In addition, this action is not a rule as defined by the Regulatory Flexibility Act (5 U.S.C. 601 et seq.) and, thus is exempt from the provisions of the Act.

List of Subjects in 7 CFR Part 1700

Electric power; Freedom of information; Loan programs—communications; Loan programs—energy; Organization and functions (Government agencies); Rural areas; Telephone.

For reasons set forth in the preamble, chapter XVII of title 7 of the Code of Federal Regulations is amended to read as follows:

PART 1700—GENERAL INFORMATION

1. The authority citation for this part continues to read as follows:

Authority: 5 U.S.C. 301, 552; 7 U.S.C. 901 et seq., 1921 et seq., 6941 et seq.; 7 CFR 2.7.

Subpart A—General

2. Section 1700.2 is amended by revising paragraphs (b) and (c) to read as follows:

§ 1700.2 Availability of information.

* * * * *

(b) Information about RUS is available for public inspection and copying as required by the Freedom of Information Act, 5 U.S.C. 552 et seq. Information about availability and costs of agency publications and other agency materials is available from the Director, Program Development and Regulatory Analysis, Rural Utilities Service, United States Department of Agriculture, Room 5159-S, 1400 Independence Avenue, SW., STOP 1530, Washington, DC 20250-1530. Phone 202-720-9450. FAX 202-720-8435.

(c) RUS issues indexes of publications in conformance with the Freedom of Information Act and Department of Agriculture regulations at 7 CFR part 1. Many RUS documents, including regulations and delegations of authority for headquarters and field staff are available on the world wide web at http://www.usda.gov/rus.

3. Section 1700.3 is revised to read as follows:

§ 1700.3 Requests under the Freedom of Information Act.

Department of Agriculture procedures for requests for records under the Freedom of Information Act are found at 7 CFR part 1. Requests must be in writing and may be submitted in person or by mail to United States Department of Agriculture, Rural Utilities Service, Room 5159-S, 1400 Independence Avenue, SW., STOP 1530, Washington, DC 20250-1530; or by FAX to 202-401-1977. As set forth in 7 CFR 1.16, fees may be charged for processing of requests for records. An appeal of the agency determination concerning the request for official records shall be made in writing to the Administrator, Rural Utilities Service, United States Department of Agriculture, Room 5135-S, 1400 Independence Avenue, SW., STOP 1510, Washington, DC 20250-1510.

4. Section 1700.4 is revised to read as follows:

§ 1700.4 Public comments on proposed rules.

RUS requires that all persons submitting comments to a proposed rule or other document published by the agency in the Federal Register, submit comments as specified in the published notice. Copies of comments submitted are available to the public in conformance with 7 CFR part 1.

Subpart B—Agency Organization and Functions

5. Revise § 1700.26 to read as follows:

§ 1700.26 Deputy Administrator.

The Deputy Administrator aids and assists the Administrator. The Deputy Administrator provides overall policy direction to all RUS programs. The Deputy Administrator reviews agency policies and, as necessary, implements changes and participates with the Administrator and other officials in planning and formulating the programs and activities of the agency, including the making and servicing of loans and grants. The Deputy Administrator is “first assistant” for purposes of the Federal Vacancies Reform Act of 1998 (5 U.S.C. 3345-3349d).

§§ 1700.27-1700.33 [Redesignated as § 1700.28-1700.34]

6. Redesignate §§ 1700.27 through 1700.33 as §§ 1700.28 through 1700.34, respectively.

7. Add a new § 1700.27 to read as follows:

§ 1700.27 Chief of Staff.

The Chief of Staff aids and assists the Administrator and the Deputy Administrator. The Chief of Staff advises the Administrator regarding policy initiatives and operational issues and assists the Administrator and the Deputy Administrator in developing and planning agency program initiatives. The Chief of Staff is responsible for implementation of overall policy initiatives and provides direction to all RUS programs.

Subpart C—Loan and Grant Approval Authorities

8. Revise § 1700.53 to read as follows:

§ 1700.53 Persons serving as Acting Administrator.

In accordance with procedures established in the RUS Continuity of Operations (COOP) plan, the following officials, in the order indicated below, shall act in the office of Rural Utilities Service Administrator in case of the Administrator's absence, or inability to act, until the absence or inability ceases.

(a) The Deputy Administrator is “first assistant” for purposes of the Federal Vacancies Reform Act of 1998 (5 U.S.C. § 3345-3349d) and shall, in the absence or disability of the Administrator, or in the event of a vacancy in the office of Administrator, serve as Acting Administrator, subject to the limitations established by law.

(b) In the event of the absence or disability of both the Administrator and the Deputy Administrator, or in the event of a vacancy in both the office of the Administrator and the Deputy Administrator, the official incumbents of the following positions shall, in the sequence shown, temporarily perform all of the functions and duties of the Administrator, except to the extent that such functions and duties may not be delegated by law.

(1) Chief of Staff.

(2) Assistant Administrator, Electric Program.

(3) Assistant Administrator, Water and Environmental Programs.

(4) Assistant Administrator, Telecommunications Programs.

(5) Assistant Administrator, Program Accounting and Regulatory Analysis.

(6) Community Programs Director of the Rural Development Kentucky State Office.

(c) Eligibility for succession to the position of RUS Administrator shall be limited to officially assigned incumbents of positions listed in paragraph (b) of this section. Only officials specifically designated in the approved order of succession are eligible. Persons appointed on acting basis, or on some other temporary basis, are ineligible by virtue of so serving to serve as a successor. Therefore the order of succession would fall to the next designated official in the approved order of succession. The eligibility of the incumbent of paragraph (b)(6) of this section to serve as a successor is also limited to periods of national emergency declared by the President or during the activation of the RUS COOP plan.

(d) In the event of the absence or disability of the Administrator, or in the event that the Administrator's position is vacant, the Deputy Rural Utilities Service Administrator is the only RUS official authorized to serve as Acting Administrator. When serving as Acting Administrator, the Deputy Administrator is authorized to perform all of the functions and duties of the office of the Administrator, including those functions and duties that are required by statute or regulation to be performed exclusively by the Administrator. In the event of the absence or disability of both Administrator and the Deputy Administrator, or in the event that both the office of Administrator and Deputy Administrator are vacant, the officials in the order of succession indicated in paragraph (b) of this section shall perform all the functions and duties of the Administrator but may not serve as Acting Administrator.

(e) The Administrator retains the discretion to depart from the order in paragraph b for occasions where deviation from automatic succession is desired by the Administrator. Such temporary designations shall be in writing. Notwithstanding the provisions of this section 1710.53 not contained in this paragraph (e), the Administrator may delegate full or limited authority to perform the functions and duties of the office of Administrator except to the extent that such functions and duties may not be delegated by law.

(f) The Administrator may terminate the delegations under this section 1700.53, in whole or in part, at any time. Unless terminated by the Administrator, written delegations under paragraph (e) of this section expire in accordance with their terms. Individuals acting as successors under paragraph (b) of this section will be relieved of such authority as soon as an incumbent in a position listed higher on the order of succession is available, able, and assumes the functions and duties of the Administrator, or when an official with requisite authority designates a permanent or acting Administrator.

(g) Individuals exercising authority under this § 1700.53 shall keep a record of important actions taken and the period during which the authority is exercised.

(h) The authority to perform functions and duties pursuant to this § 1700.53 can not be redelegated by an incumbent of a position listed in paragraph (b) of this section.

Dated: February 10, 2006.
Thomas C. Dorr,
Under Secretary, Rural Development.

[FR Doc. 06-1483 Filed 2-16-06; 8:45 am]

BILLING CODE 3410-15-P